DEPARTMENT OF TRANSPORTATION

Federal Aviation Administration

14 CFR Part 73

[Docket No. FAA-2015-3680; Airspace Docket No. 13-ASW-15]

RIN 2120-AA66

Proposed Establishment of and Modification to Restricted Areas; Fort Sill, OK

AGENCY: Federal Aviation Administration (FAA), DOT.

ACTION: Notice of proposed rulemaking (NPRM).

SUMMARY: This action proposes to establish 2 new restricted areas (R-5601G and R-5601H) to expand the special use airspace (SUA) complex located at Fort Sill, OK, to provide additional maneuvering airspace for current and planned training activities determined to be hazardous to non-participating aircraft. Specifically, the proposed restricted areas would provide participating fighter or bomber aircraft with laser-firing and maneuvering airspace when training at the Falcon Bombing Range contained in R-5601C, at the West Range Target Area contained in R-5601B, or at the East Range Target Area contained in R-5601A. In addition, the using agency for all Fort Sill restricted areas would be updated to reflect the current organization tasked with that responsibility. The U.S. Army requested that the FAA take this action to allow realistic training on current tactics developed and refined during recent combat operations for employing hazardous targeting laser systems and weapons capabilities at longer ranges from the target area.

DATES: Comments must be received on or before December 3, 2015.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2015-3680 and Airspace Docket No. 13-ASW-15, at the beginning of your comments. You may also submit comments through the Internet at http://www.regulations.gov. Comments on environmental and land use aspects to should be directed to: Mr. Glen Wheat, U.S. Army Garrison, Directorate of Public Works, IMWE-SIL-PWE, 5503 NW. Currie Road, Fort Sill, OK 73503-9051; email: glen.wheat@us.army.mil and telephone: (580) 442-2715.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would restructure the restricted airspace at Fort Sill, OK, to enhance safety and accommodate essential military training.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2015-3680 and Airspace Docket No. 13-ASW-15) and be submitted in triplicate to the Docket Management System (see ADDRESSES section for address and phone number). You may also submit comments through the internet at http://www.regulations.gov.

Commenters wishing the FAA to acknowledge receipt of their comments on this action must submit with those comments a self-addressed, stamped postcard on which the following statement is made: “Comments to FAA Docket No. FAA-2015-3680 and Airspace Docket No. 13-ASW-15.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person at the Dockets Office (see ADDRESSES section for address and phone number) between 9:00 a.m. and 5:00 p.m., Monday through Friday, except Federal holidays. An informal docket may also be examined during normal business hours at the office of the Operations Support Group, Central Service Center, Federal Aviation Administration, 2601 Meacham Blvd., Fort Worth, TX 76137.

Persons interested in being placed on a mailing list for future NPRMs should contact the FAA's Office of Rulemaking, (202) 267-9677, for a copy of Advisory Circular No. 11-2A, Notice of Proposed Rulemaking Distribution System, which describes the application procedure.

Background

Military use of the airspace at Fort Sill, OK, can be traced back to 1949. Today, the Fort Sill SUA complex consists of six restricted areas, designated R-5601A, R-5601B, R-5601C, R-5601D, R-5601E, and R-5601F. The three ranges (Falcon Range, West Range, and East Range) contained within the Fort Sill SUA complex are used for a wide variety of military air and ground activities; including, but not limited to, air-to-surface weapons delivery training, laser systems, artillery, and joint air and ground forces exercises. Weapons events include high-, medium-, and low-altitude bombing runs, to include level, climbing, and diving deliveries. Today, real-world combat tactics for employing targeting lasers and weapons systems at distances farther from the target are driving the requirement for increased lateral dimensions of the Fort Sill SUA complex to support aircrew training in laser employment and weapons delivery tactics. Although the R-5601A, R-5601B, R-5601C, and R-5601F airspace areas extend to a maximum altitude of 40,000 feet mean sea level (MSL), the relatively small north to south dimensions of the restricted areas (approximately 9 nautical miles (NM) at its widest point) is not sufficient to provide the required distance from targets needed by aircrews employing current combat laser targeting or weapons deliveries tactics. Since there is no alternative SUA complex within 200 NM where combat lasers may be employed, aircrew training is significantly restricted at the Fort Sill ranges.

The Proposal

The FAA is proposing an amendment to 14 CFR part 73 to establish 2 new restricted areas (designated R-5601G and R-5601H) at Fort Sill, OK. This action would establish restricted area R-5601G with a ceiling to, but not including, 8,000 feet MSL under the Washita Military Operations Area (MOA), and establish restricted area R-5601H with a ceiling of Flight Level (FL) 400 to match the adjacent restricted areas; thus, expanding the lateral limits of restricted area airspace at the Fort Sill SUA complex. Restricted area R-5601G would abut the existing restricted area complex to the north, underlying the Washita MOA, and extend from 500 feet above ground level (AGL) to, but not including, 8,000 feet MSL. R-5601G would extend approximately three quarters of the existing restricted area complex northward, between 5 NM to 11 NM, to provide the required expanded lateral space from the current range boundaries. Restricted area R-5601H would extend from the surface to FL400. R-5601H would fill a small airspace area surrounded by two continuously active restricted areas (R-5601A and R-5601B) extending from the surface to FL400 and a MOA extending from 8,000 feet MSL to, but not including, FL180. Additionally, when active, R-5601H would overlay the Fort Sill post and a portion of the Class D airspace supporting the non-joint use military airfield located at Fort Sill.

The two new restricted areas would allow participating aircraft to maneuver within the current Fort Sill Approach Control Airspace and contain the hazardous combat laser energy (not eye-safe) within restricted airspace. As proposed, R-5601G would only be used for aircraft maneuvering and combat laser targeting employment and R-5601H would only be used for aircraft conducting Close Air Support (CAS) training. There would be no changes to the existing pattern of firing, ordnance delivery runs, or weapons impact areas and all weapons release would continue to occur in R-5601A, R-5601B, or R-5601C, as they are now. Additionally, no supersonic flight will occur.

In addition to the proposed establishment of R-5601G and R-5601H, the following minor changes to the descriptions of the six existing Fort Sill restricted areas would be made. The using agency for R-5601A-E would be changed from “U.S. Army, Commanding General, Fort Sill, OK,” to “U.S. Army, Commanding General, U.S. Army Fires Center of Excellence (USAFCOE), Fort Sill, OK.” The using agency for R-5601F would be changed from “Commanding General, United States Army Field Artillery Center (USAFACFS), Fort Sill, OK,” to “U.S. Army, Commanding General, U.S. Army Fires Center of Excellence (USAFCOE), Fort Sill, OK.” This change would reflect the current organizational responsibilities. The new using agency would also apply to the proposed R-5601G and R-5601H. The boundaries, designated altitudes, times of designation, and controlling agency information for restricted areas R-5601A-F would not be changed by this proposal.

The FAA does not anticipate any aeronautical impacts as a result of this proposed action since Fort Sill Approach Control has radar coverage over the proposed restricted areas and already controls the airspace from surface to 7,000 feet MSL. Procedures will be established to continue allowing non-participating aircraft access to the airspace even when the restricted areas are in use. Pilots seeking information about the activity status of R-5601G and R-5601H should contact Fort Sill Approach Control on the frequency listed in the “Special Use Airspace” panel of the Dallas—Ft. Worth Sectional Aeronautical Chart. Fort Sill Approach Control will continue to provide VFR traffic advisories, as they do today, to non-participating aircraft requesting them.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal.

Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1E, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.56 (Amended)

2. § 73.56 is amended as follows:

R-5601A Fort Sill, OK [Amended]

By removing the current using agency and substituting the following:

Using agency. U.S. Army, Commanding General, U.S. Army Fires Center of Excellence (USAFCOE), Fort Sill, OK.

R-5601B Fort Sill, OK [Amended]

By removing the current using agency and substituting the following:

Using agency. U.S. Army, Commanding General, U.S. Army Fires Center of Excellence (USAFCOE), Fort Sill, OK.

R-5601C Fort Sill, OK [Amended]

By removing the current using agency and substituting the following:

Using agency. U.S. Army, Commanding General, U.S. Army Fires Center of Excellence (USAFCOE), Fort Sill, OK.

R-5601D Fort Sill, OK [Amended]

By removing the current using agency and substituting the following:

Using agency. U.S. Army, Commanding General, U.S. Army Fires Center of Excellence (USAFCOE), Fort Sill, OK.

R-5601E Fort Sill, OK [Amended]

By removing the current using agency and substituting the following:

Using agency. U.S. Army, Commanding General, U.S. Army Fires Center of Excellence (USAFCOE), Fort Sill, OK.

R-5601F Fort Sill, OK [Amended]

By removing the current using agency and substituting the following:

Using agency. U.S. Army, Commanding General, U.S. Army Fires Center of Excellence (USAFCOE), Fort Sill, OK.

R-5601G Fort Sill, OK [New]

Boundaries. Beginning at Lat. 34°46′07″ N., long. 98°25′50″ W.; to Lat. 34°45′03″ N., long. 98°29′46″ W.; thence counterclockwise via the 46 NM arc of SPS VORTAC to Lat. 34°43′46″ N., long. 98°49′55″ W.; to Lat. 34°47′00″ N., long. 98°51′00″ W.; to Lat. 34°50′30″ N., long. 98°46′02″ W.; to Lat. 34°57′51″ N., long. 98°25′47″ W.; to the point of beginning.

Designated altitudes. 500 feet AGL to, but not including, 8,000 feet MSL.

Time of designation. Sunrise to 2200 local time, Monday-Friday; other times by NOTAM.

Controlling agency. FAA, Fort Worth ARTCC.

Using agency. U.S. Army, Commanding General, U.S. Army Fires Center of Excellence (USAFCOE), Fort Sill, OK.

R-5601H Fort Sill, OK [New]

Boundaries. Beginning at Lat. 34°38′15″ N., long. 98°20′56″ W.; to Lat. 34°38′30″ N., long. 98°21′41″ W.; to Lat. 34°38′50″ N., long. 98°22′06″ W.; to Lat. 34°39′53″ N., long. 98°22′16″ W.; to Lat. 34°40′47″ N., long. 98°23′09″ W.; thence counterclockwise along an arc, 3-mile radius centered at Lat. 34°38′18″ N., long. 98°24′07″ W.; to Lat. 34°40′12″ N., long. 98°26′18″ W.; to Lat. 34°38′15″ N., long. 98°26′19″ W.; to the point of beginning.

Designated altitudes. Surface to FL 400.

Time of designation. By NOTAM.

Controlling agency. FAA, Fort Worth Center.

Using agency. U.S. Army, Commanding General, U.S. Army Fires Center of Excellence (USAFCOE), Fort Sill, OK.

Issued in Washington, DC on October 8, 2015.
Gary A. Norek,
Manager, Airspace Policy Group.

[FR Doc. 2015-26499 Filed 10-16-15; 8:45 am]

BILLING CODE 4910-13-P